DEPARTMENT OF THE INTERIOR

Fish and Wildlife Service

Information Collection Renewal To Be Sent to the Office of Management and Budget (OMB) for Approval Under the Paperwork Reduction Act; OMB Control Number 1018-0014; Special Use Permit Application for National Wildlife Refuges in Alaska

AGENCY: Fish and Wildlife Service, Interior.

ACTION: Notice; request for comments.

SUMMARY: We (Fish and Wildlife Service, Service) plan to request that OMB renew approval for our information collection associated with the application for special use permits on national wildlife refuges in Alaska. The current OMB control number for this information collection is 1018-0014, which expires September 30, 2006. We will request that OMB renew approval of this information collection for a 3-year term.

DATES: You must submit comments on or before July 25, 2006.

ADDRESSES: Send your comments on the information collection to Hope Grey, Information Collection Clearance Officer, Fish and Wildlife Service, MS 222-ARLSQ, 4401 N. Fairfax Drive, Arlington, VA 22203 (mail); hope_grey@fws.gov (e-mail); or (703) 358-2269 (fax).

FOR FURTHER INFORMATION CONTACT: To request explanatory information about our information collection request or the related form, contact Hope Grey at the addresses above or at (703) 358-2482.

SUPPLEMENTARY INFORMATION: OMB regulations at 5 CFR part 1320, which implement provisions of the Paperwork Reduction Act of 1995 (44 U.S.C. 3501 et seq.), require that interested members of the public and affected agencies have an opportunity to comment on information collection and recordkeeping activities (see 5 CFR 1320.8(d)). Federal agencies may not conduct or sponsor and a person is not required to respond to a collection of information unless it displays a currently valid OMB control number.

The National Wildlife Refuge System Improvement Act of 1997, which amends the National Wildlife Refuge Administration Act (16 U.S.C. 668dd-668ee), requires that we authorize economic activities on any national wildlife refuge by permit only when the activity will not be incompatible with the purpose(s) for which the refuge was established. The Alaska National Interest Lands Conservation Act (ANILCA) (16 U.S.C. 410hh-3233 and 43 U.S.C. 1602-1784) provides for the disposition and use of a variety of federally owned lands in Alaska. Sections 302 and 303 of ANILCA identify the purposes for which each refuge in Alaska was established and how we will manage each refuge. Section 304 of ANILCA prohibits us from permitting any use of Alaska refuges unless the use is compatible with the purposes of the refuge, and requires that we prescribe regulations and impose terms and conditions as may be necessary and appropriate to ensure activities permitted under any use are so compatible. Various other sections of ANILCA prescribe additional conditions and requirements for us to permit uses on national wildlife refuges in Alaska.

(1) Section 810 requires that we evaluate the effects of any proposed use on subsistence uses and needs.

(2) Section 1303 establishes requirements and conditions for permitting use or construction of cabins, and states that we will issue no special use permits for cabins unless the permit applicant provides certain items of information.

(3) Section 1307 contains provisions concerning persons and entities to whom we are to give special rights and preferences with respect to providing commercial visitor services (except for guided hunting and sport fishing services) on units of the National Wildlife Refuge System in Alaska.

Our general refuge regulations provide for public entry for specialized purposes, including economic activities such as the operation of guiding, outfitting, and other visitor services on refuges by concessionaires or cooperators under appropriate contracts or legal agreements (see 50 CFR 25.61) or special use permits (see 50 CFR 26.22(b) and 26.25). Alaska refuge regulations provide the authorities and procedures for issuing permits on Alaska refuges, most of which are for providers of services and facilities to the public (see 50 CFR 36.37 and 36.41). We issue permits for a specific period as determined by the type and location of the use or visitor service provided.

In addition to the above permits, Kodiak National Wildlife Refuge issues special use permits to allow public recreational use of certain easement lands in accordance with the terms of a private land conservation easement among the United States, the State of Alaska, and Koniag, Inc. Our previous request for approval of this information collection did not include burden estimates for these permits. When we send our renewal request to OMB, we will increase our burden estimates (see table below) to include the Kodiak permits.

We use information provided on the permit application to determine if the applicant is qualified and eligible for a permit. For competitively awarded permits, we use the information to ensure that we select the most qualified applicants to receive the benefit of a refuge permit. Where applicable, we also use the information to determine the applicant's eligibility for special rights and preferences required by section 1307 of ANILCA. Refuge managers must determine or ensure that the proposed uses are compatible with the purposes of the refuge, provide safe and high-quality visitor services to the public, and are consistent with other statutory and regulatory requirements for management of Alaska refuges. Alaska refuge managers need the information requested on the permit application to evaluate potential impacts of the proposed uses on refuge resources and other refuge users.

Title: Special Use Permit Application for National Wildlife Refuges in Alaska.

OMB Control Number: 1018-0014.

Form Number: FWS Form 3-2001.

Frequency of Collection: On occasion.

Description of Respondents: Individuals and households, business and other for-profit institutions, not-for-profit institutions, farms, and State, local, or tribal governments.

Information Collection Burden Estimate:

Type of permit application | Annual number of respondents | Completion time (hours) | Annual burden (hours)
Competitively issued permit | 180 | 30 | 5,400
Non-competitively issued permit | 410 | 0.8 | 328
Combined Total | 590 |  | 5,728

We invite comments concerning this proposed information collection on: (1) Whether or not the collection of information is necessary for the proper performance of our functions, including whether or not the information will have practical utility; (2) the accuracy of our estimate of the burden of the collection of information; (3) ways to enhance the quality, utility, and clarity of the information to be collected; and (4) ways to minimize the burden of the collection of information on respondents. This information collection is part of a system of records covered by the Privacy Act (5 U.S.C. 552(a)).

Dated: May 19, 2006.
Hope G. Grey,
Information Collection Clearance Officer, Fish and Wildlife Service.

[FR Doc. E6-8198 Filed 5-25-06; 8:45 am]

BILLING CODE 4310-55-P